DEPARTMENT OF COMMERCE

National Oceanic and Atmospheric Administration

Availability of Seats for the Thunder Bay National Marine Sanctuary Advisory Council

AGENCY: Office of National Marine Sanctuaries, National Ocean Service (NOS), National Oceanic and Atmospheric Administration, Department of Commerce (DOC).

ACTION: Notice and request for applications.

SUMMARY: The ONMS is seeking applicants for the following seats on the Thunder Bay National Marine Sanctuary Advisory Council (council): Recreation, Business/Economic Development, Tourism (primary seat only), Diving (alternate only), Higher Education, and Citizen-at-Large. Applicants are chosen based upon their particular expertise and experience in relation to the seat for which they are applying; community and professional affiliations; philosophy regarding the protection and management of marine resources; and possibly the length of residence in the area affected by the sanctuary. Applicants who are chosen as members should expect to serve 3-year terms, pursuant to the council's Charter.

DATES: Applications are due by March 4, 2013.

ADDRESSES: Application kits may be obtained from Thunder Bay National Marine Sanctuary, 500 W. Fletcher Street, Alpena, Michigan 49707. Completed applications should be sent to the same address.

FOR FURTHER INFORMATION CONTACT: Jean Bauer, Advisory Council Coordinator, Thunder Bay National Marine Sanctuary, 500 W. Fletcher Street, Alpena, Michigan 49707, (989) 356-8805 ext. 13, jean.bauer@noaa.gov.

SUPPLEMENTARY INFORMATION: The Thunder Bay Sanctuary Advisory Council (council) was established in 1997. The council has fifteen members and fifteen alternates, five seats represent local community governments, and the other ten represent facets of the sanctuary community, including education, research, fishing, diving, tourism, economic development, and the community at large. The council meets bi-monthly, with informal coffees and lunches scheduled for non-meeting months. Working groups meet as needed. The fifteen alternates also take an active role in council meetings as well as assist in carrying out many volunteer assignments throughout the year.

Authority: 16 U.S.C. 1431, et seq.

(Federal Domestic Assistance Catalog Number 11.429 Marine Sanctuary Program)

Dated: February 7, 2013.
Daniel J. Basta,
Director, Office of National Marine Sanctuaries, National Ocean Service, National Oceanic and Atmospheric Administration.

[FR Doc. 2013-03625 Filed 2-19-13; 8:45 am]

BILLING CODE 3510-NK-M